DEPARTMENT OF HEALTH AND HUMAN SERVICES

Administration for Children and Families

Office of the Assistant Secretary; Compassion Capital Fund

AGENCY: Administration for Children and Families (ACF), Department of Health and Human Services.

ACTION: Solicitation of public comments.

SUMMARY: ACF is preparing guidelines to award funds in fiscal year 2002, as allowed by the newly funded Compassion Capital Fund. In order to obtain a wide range of views and comments, ACF is soliciting comments from the public and other Federal agencies on the important issues that ACF should consider in developing such guidelines.

DATES: In order to be considered, comments must be received by ACF on or before March 29, 2002.

ADDRESSES: Comments sent by mail should be addressed to: Mr. Bobby Polito, Administration for Children and Families, 6th Floor—West, 370 L'Enfant Promenade, SW., Washington, DC 20447. Comments may be sent by email to: ccf@acf.dhhs.gov, or faxed to Bobby Polito at 202-401-5770.

FOR FURTHER INFORMATION CONTACT: Mr. Bobby Polito, Administration for Children and Families, 6th Floor—West, 370 L'Enfant Promenade, SW., Washington, DC 20447 or phone: 202-690-6241.

SUPPLEMENTARY INFORMATION: In fiscal year 2002, the Congress funded the establishment of a Compassion Capital Fund. This new program is part of the Administration's Faith-Based Initiative. Funds will be used to support public/private partnerships to help small faith- and community-based organizations replicate or expand model social service programs and conduct evaluations of “best practices” among charitable organizations so that successful models can be emulated and expanded by others.

The Administration for Children and Families (ACF) within the Department of Health and Human Services has been given administrative responsibility for implementing this program. ACF is inviting public comment to help make informed deliberations about the parameters for this new program, as well as ways to support and promote rigorous evaluations on the “best practices” among charitable organizations.

Request for Comments

ACF is seeking public comment on the following topics and other topics that responders choose to address. Among things we are considering are: (1) Providing technical assistance for faith- and community-based organizations, such as—(A) grant writing and grant management assistance, which may include assistance provided through workshops and other guidance; (B) legal assistance with incorporation and with obtaining tax-exempt status; and (C) information on, and referrals to, other non-governmental organizations that provide expertise in accounting, legal issues, tax issues, program development, and on a variety of other organizational topics; (2) providing information and assistance for faith- and community-based organizations on capacity building; (3) providing for faith- and community-based organizations information on and assistance in identifying and using best practices for delivering assistance to persons, families, and communities in need; (4) providing information on, and assistance in, utilizing regional intermediary organizations to increase and strengthen the capabilities of nonprofit faith- and community-based organizations; (5) assisting faith- and community-based organizations in replicating social programs of demonstrated effectiveness; and (6) encouraging research on the best practices of social service organizations.

Dated: February 20, 2002.
Robert J. Polito,
Special Assistant for Faith-Based Initiatives Office of the Assistant Secretary.

[FR Doc. 02-4544 Filed 2-25-02; 8:45 am]

BILLING CODE 4184-01-M